DEPARTMENT OF COMMERCE

National Oceanic and Atmospheric Administration.

[I.D. 031003D]

Proposed Information Collection; Comment Request; Atlantic Highly Migratory Species Recreational Landings Reports.

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 16, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Dianne Stephan, phone 978/281-9397; Highly Migratory Species Division, NMFS, 1 Blackburn Drive, Gloucester, MA 01930.

SUPPLEMENTARY INFORMATION:

I. Abstract

The purpose of BFT catch reporting is to provide real-time catch information for monitoring the recreational BFT fishery. Under the Atlantic Tunas Convention Act of 1975 (ATCA, 16 U.S.C. 971), the United States is required to abide by recommendations of the International Commission for the Conservation of Atlantic Tunas (ICCAT), including a specified BFT quota. This program supports BFT management and scientific research authorized under ATCA and the Magnuson Stevens Fishery Conservation and Management Act (MSFMCA,16 U.S.C. 1801 et seq.). Recreational anglers are required to report specific information regarding their catch after they land a BFT. The reported information is tallied and used to monitor recreational landings and incorporated into scientific analysis of BFT stock status. For any State that participates in tagging programs to monitor recreational landings, it is expected that weekly and one annual report would be submitted to summarize landings and results to date.

Atlantic swordfish and billfish are also managed internationally by ICCAT and nationally under the ATCA and the MSFMCA. This collection will provide information needed to monitor the recreational limit established by ICCAT for Atlantic blue and white marlin, and the recreational catch of swordfish, which is applied to the ICCAT established U.S. quota. This collection will also provide information on recreational landings of West Atlantic sailfish which is unavailable from established monitoring programs. Collection of sailfish information is authorized under MSFCMA for purposes of stock management.

II. Method of Collection

Once a recreational fisherman lands a bluefin tuna, he is required to report his catch via one of three methods. If the fish is landed in the states of North Carolina (NC) or Maryland (MD), the fisherman must obtain a harvest tag from the state fisheries agency by submitting a landing card at a state BFT reporting station. Under this tag method participating States (MD and NC) also submit weekly written reports and one annual report summarizing results and data for the prior time period.

In all other Atlantic and Gulf coast states, fishermen report via either a toll-free telephone call or an Internet Web site. A follow-up call to the angler is made by NOAA Fisheries personnel when the landed fish is a trophy BFT (greater than or equal to 73” curved fork length).

When a fisherman lands an Atlantic marlin, West Atlantic sailfish and/or North Atlantic swordfish, they must report their catch by calling a toll-free telephone number. Agency personnel then place a follow-up call to the angler to verify the initially-reported information.

III. Data

OMB Number: 0648-0328.

Form Number: None.

Type of Review: Regular submission.

Affected Public: Business or other for-profit organizations; individuals or households; and State, Local, or Tribal government.

Estimated Number of Respondents: 12,131.

Estimated Time Per Response: 5 minutes for an initial call-in or Internet report; 5 minutes for a confirmation call; 10 minutes for a landing card; 1 hour for a weekly state report; and 4 hours for an annual state report.

Estimated Total Annual Burden Hours: 2,096.

Estimated Total Annual Cost to Public: None.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 7, 2003.
Gwellnar Banks,
Management Analyst, Office of the Chief Information Officer.

[FR Doc. 03-6198 Filed 3-14-03; 8:45 am]

BILLING CODE 3510-22-S